DEPARTMENT OF TRANSPORTATION

Federal Railroad Administration

[Docket No. FRA-2017-0002-N-20]

Proposed Agency Information Collection Activities; Comment Request

AGENCY: Federal Railroad Administration (FRA), Department of Transportation (DOT).

ACTION: Notice of information collection; request for comment.

SUMMARY: Under the Paperwork Reduction Act of 1995 (PRA), this notice announces that FRA is forwarding the Information Collection Request (ICR) abstracted below to the Office of Management and Budget (OMB) for review and comment. The ICR describes the information collections and their expected burden. On March 14, 2017, FRA published a notice providing a 60-day period for public comment and on September 13, 2017, published a notice providing a 30-day period for public comment on the ICR.

DATES: Interested persons are invited to submit comments on or before December 14, 2018.

ADDRESSES: Submit written comments on the ICR to the Office of Information and Regulatory Affairs, Office of Management and Budget, 725 17th Street NW, Washington, DC 20503, Attention: FRA Desk Officer. Comments may also be sent via email to OMB at the following address: oira_submissions@omb.eop.gov.

FOR FURTHER INFORMATION CONTACT: Mr. Michael Jones, Information Collection Clearance Officer, Office of Research, Development, and Technology, Human Factors Division, RPD-34, Federal Railroad Administration, 1200 New Jersey Avenue SE, Room W38-119, Washington, DC 20590 (telephone: (202) 493-6106); or Ms. Kim Toone, Information Collection Clearance Officer, Office of Administration, Office of Information Technology, RAD-20, Federal Railroad Administration, 1200 New Jersey Avenue SE, Room W34-212, Washington, DC 20590 (telephone: (202) 493-6132).

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. The required 60- and 30-Day Federal Register Notices were published in the Federal Register on March 14, 2017 (see 82 FR 20530) and September 13, 2017 (see 82 FR 43078), respectively. FRA received comments from the Association of American Railroads (AAR) in a letter dated October 13, 2017, outlining some concerns with the research approach in the human error study. FRA replied by letter clarifying the research approach.

Specifically, AAR commented that it was concerned that the proposed study on automated locomotive technology was not fully developed and that results of such a study might lead to unnecessary roadblocks to the development of the technology positive train control (PTC). Further, AAR stated “FRA should also include in the study a control group demonstrating the number of errors that occur in locomotives absent autonomous technology.” In response, FRA explained that under the planned research approach at the time, it was not necessary to include a manual operation condition as FRA did not intend to compare performance with vs. without automation. The purpose of the study was to understand the nature of possible design-induced errors for existing system automation in the locomotive cab, with an eye toward future improved systems. These errors are likely, absent of any human factors engineering in the system design and development process. For this examination, a control group was unnecessary. However, FRA now proposes to expand the study approach to address AAR's concern and include a manual condition control group. In this context, FRA's reference to automation means an operation assisted by autonomous technology that offers some level of automation less than full automation. This condition will provide a baseline of performance to address two hypotheses:

(H1) Automation provides specific performance benefits (e.g., an energy management software system reduces fuel usage; PTC prevents overspeeding and transgressions into workzones or past a red signal) compared with manual control, but does not reduce workload in the locomotive cab compared with manual control.

(H2) Automation usage results in more errors in high workload situations than in low workload situations (e.g., distractions lead to failure to notice mode transitions) and these errors have no direct counterpart in manual conditions.

Workload is defined as task loading, or the number of tasks in a scenario. The high workload scenarios have more tasks than the low workload scenarios. Based on the initial FRA pilot study, preceding the current study, and on research and operational experiences in other industries, high workload is often associated with error, thus, FRA's concern and interest in conducting the current study.

Before OMB decides whether to approve this proposed collection of information, an additional 30 days is being provided for public comment. Federal law requires OMB to approve or disapprove paperwork packages between 30 and 60 days after the 30-day notice is published. 44 U.S.C. 3507(b)-(c); 5 CFR 1320.10(b); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICR regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Experimental Investigation of Automation-Induced Human Error in Locomotive Cab.

OMB Control Number: 2130-XXXX.

Abstract: The purpose of this collection is to identify and evaluate the potential for human error associated with the operation of systems and automation in the locomotive cab. This research addresses DOT's strategic goal of safety. Once the nature and risk of the human error in locomotive cab systems and automation is better understood, error mitigating steps can be taken to provide safer systems and reduce the risk of accidents or incidents involving these systems. FRA will use the research's results to identify training, operational procedures, or automation design standards that will improve the safety of automated systems in locomotive cabs.

Type of Request: New information collection request.

Affected Public: Railroad Engineers and Conductors.

Form(s): FRA F 6180.3.

Respondent Universe: 24.

Frequency of Submission: Once.

Total Estimated Annual Responses: 24.

Total Estimated Annual Burden: 48 hours.

Under 44 U.S.C. 3507(a) and 5 CFR 1320.5(b) and 1320.8(b)(3)(vi), FRA informs all interested parties that it may not conduct or sponsor, and a respondent is not required to respond to a collection of information unless it displays a currently valid OMB control number.

Authority: 44 U.S.C. 3501-3520.

Juan D. Reyes III,
Chief Counsel.

[FR Doc. 2018-24715 Filed 11-13-18; 8:45 am]

BILLING CODE 4910-06-P